Proclamation 8734 of October 7, 2011

Leif Erikson Day, 2011

By the President of the United States of America

A Proclamation

The first Europeans known to set foot on North America took to the ocean more than a millennium ago, facing fierce waters and an uncertain course. Led by Leif Erikson—son of Iceland and grandson of Norway—these intrepid Scandinavians sailed fearlessly into the unknown, driven by the promise of adventure and dreams of new discoveries. When they landed in modern day Canada, they founded the settlement of Vinland and established a legacy of exploration and exchange that is fundamental to our courageous spirit.

Evoking the bravery and determination that characterized Erikson and his crew of pioneers, a group of Norwegians completed their own journey on October 9, 1825. Crammed into an undersized sloop named Restauration, these brave travelers sought new opportunities and embraced the same commitment to exploration that had driven their predecessors centuries earlier. On Leif Erikson Day, we commemorate these historic voyages and celebrate the many ways Nordic-American culture has enriched our Nation.

The triumphs of Erikson and those who followed inspire us to continue reaching for new horizons. Whether developing new technologies, pushing the boundaries of medicine, or driving ever further into the vastness of space, we do so confidently, knowing that icons like Leif Erikson were able to overcome incredible odds and drive the world forward. Today, let us celebrate his life and legacy with the bold pursuit of America’s next great innovation.

To honor Leif Erikson and celebrate our Nordic-American heritage, the Congress, by joint resolution (Public Law 88-566) approved on September 2, 1964, has authorized the President to proclaim October 9 of each year as “Leif Erikson Day.”

NOW, THEREFORE, I, BARACK OBAMA, President of the United States of America, do hereby proclaim October 9, 2011, as Leif Erikson Day. I call upon all Americans to observe this day with appropriate ceremonies, activities, and programs to honor our rich Nordic-American heritage.

IN WITNESS WHEREOF, I have hereunto set my hand this seventh day of October, in the year of our Lord two thousand eleven, and of the Independence of the United States of America the two hundred and thirty-sixth.

[FR Doc. 2011-26726

Filed 10-12-11; 11:15 am]

Billing code 3295-F2-P